DEPARTMENT OF LABOR

Employment and Training Administration

[TA-W-57,683]

National Spinning Co., LLC, Alamance Dye Plant, Burlington, NC; Notice of Termination of Investigation

Pursuant to Section 221 of the Trade Act of 1974, as amended, an investigation was initiated on August 5, 2005 in response to a petition filed by a company official on behalf of workers at National Spinning Co., LLC, Alamance Dye Plant, Burlington, North Carolina.

The petitioning group of workers is covered by an earlier petition (TA-W-57,619) instituted on July 26, 2005, and filed on behalf of workers of the firm in Whiteville, North Carolina and other locations, including the Alamance Dye Plant in Burlington. That petition is subject of an ongoing investigation for which a determination has not yet been issued.

Further investigation in this case would serve no purpose. Consequently, the investigation under this petition has been terminated.

Signed at Washington, DC, this 18th day of August, 2005.
Linda G. Poole,
Certifying Officer, Division of Trade Adjustment Assistance.

[FR Doc. E5-4783 Filed 8-31-05; 8:45 am]

BILLING CODE 4510-30-P